DEPARTMENT OF ENERGY

Federal Energy Regulatory Commission

[Docket No. RP01-565-000]

Midwestern Gas Transmission Company; Notice of Tariff Filing and Annual Charge Adjustment

September 7, 2001.

Take notice that on August 31, 2001, Midwestern Gas Transmission Company (Midwestern) tendered for filing to become part of Midwestern Gas Transmission Company's FERC Gas Tariff, Second Revised Volume No. 1, the following tariff sheet to become effective October 1, 2001:

Thirteenth Revised Sheet Number 5

Midwestern states the purpose of this filing is to update Midwestern's tariff to reflect the Annual Charge Adjustment (ACA) factor effective for the twelve-month period beginning October 1, 2001 pursuant to Section 154.402 of the Commission's regulations and Article XVIII of the General Terms and Conditions of Midwestern's tariff. Midwestern states that its new ACA factor will be $0.0021 per Dth. This new factor was specified by the Commission at the time the Commission calculated the annual charge bill for fiscal year 2001, and is a decrease from its current ACA factor of $0.0001 per Dth.

Midwestern state that copies of this filing are being mailed to its customers, state commissions and other interested parties.

Any person desiring to be heard or to protest said filing should file a motion to intervene or a protest with the Federal Energy Regulatory Commission, 888 First Street, NE., Washington, DC 20426, in accordance with Sections 385.214 or 385.211 of the Commission's Rules and Regulations. All such motions or protests must be filed on or before September 14, 2001. Protests will be considered by the Commission in determining the appropriate action to be taken, but will not serve to make protestants parties to the proceedings. Any person wishing to become a party must file a motion to intervene. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

Linwood A. Watson, Jr.,
Acting Secretary.

[FR Doc. 01-23117 Filed 9-14-01; 8:45 am]

BILLING CODE 6717-01-P